DEPARTMENT OF THE TREASURY

Office of Thrift Supervision

[AC-4: OTS Nos. H-3725 and 14544]

BancAffiliated, Inc., Bedford, Texas; Approval of Conversion Application

Notice is hereby given that on April 12, 2001, the Director, Examination Policy, Office of Thrift Supervision, or his designee, acting pursuant to delegated authority, approved the application of Affiliated Bank, F.S.B., Bedford, Texas, to convert to the stock form of organization. Copies of the application are available for inspection at the Dissemination Branch, Office of Thrift Supervision, 1700 G Street, NW., Washington, DC 20552, and the Midwest Regional Office, Office of Thrift Supervision, 225 E. John Carpenter Freeway, Suite 500, Irving, Texas 75062-2326.

Dated: April 17, 2001.
By the Office of Thrift Supervision.
Nadine Y. Washington,
Corporate Secretary.

[FR Doc. 01-9890 Filed 4-20-01; 8:45 am]

BILLING CODE 6720-01-M